ENVIRONMENTAL PROTECTION AGENCY

[FRL-7884-1]

Science Advisory Board Staff Office; Request for Nominations, Ad Hoc Integrated Nitrogen Research Committee of the Science Advisory Board

AGENCY: Environmental Protection Agency (EPA).

ACTION: Notice.

SUMMARY: The U.S. Environmental Protection Agency (EPA or Agency) Science Advisory Board (SAB) Staff Office (hereinafter, the “Staff Office”) is announcing the formation of a new Ad Hoc Integrated Nitrogen Research Committee of the Science Advisory Board (hereinafter, the “Committee”) and is hereby soliciting nominations for this Committee.

DATES: Nominations should be submitted by April 11, 2005, per the instructions below.

FOR FURTHER INFORMATION CONTACT: Any member of the public wishing further information regarding this Request for Nominations may contact Ms. Kathleen White, Designated Federal Officer (DFO), EPA Science Advisory Board Staff, at telephone/voice mail: (202) 343-9878; or via e-mail at: white.kathleen@epa.gov. General information concerning the SAB can be found on the EPA Web site at: http://www.epa.gov/sab.

SUPPLEMENTARY INFORMATION:

Background

Reactive nitrogen compounds (Nr)—that is, all biologically active, photochemically reactive, and radiatively active nitrogen compounds in the atmosphere and biosphere of the Earth can cause multiple effects in the atmosphere, in terrestrial ecosystems, in freshwater and marine systems, and on human health. The result is a wide variety of beneficial and detrimental changes in the health and welfare of people and ecosystems. Information to date indicates reactive nitrogen is accumulating in the environment. Anthropogenic activity leading to production of reactive nitrogen has been shown to exceed that from natural systems. Circulation of reactive nitrogen in the atmosphere, hydrosphere and biosphere of the Earth has a wide variety of consequences that are magnified with time as reactive nitrogen moves along its biogeochemical pathway. Furthermore, research indicates the influence of reactive nitrogen in the environment should be considered from a systems perspective and integrated across environmental media. For example, reactive nitrogen that produces urban air pollution can also contribute to water pollution and the extensive use of nitrogen-containing materials in a watershed has a strong impact on the health of the associated coastal zone. Accordingly, there is a need to assess the extent of linkage among the effects that nitrogen causes in the environment, and to explore the implications of these linkages for nitrogen research and risk management.

The EPA Science Advisory Board (SAB) was established by 42 U.S.C. 4365 to provide independent scientific and technical advice, consultation, and recommendations to the EPA Administrator on the technical bases for EPA policies and regulations. It is the initial assessment of the SAB that EPA's research programs on Nr could be better integrated. The SAB is conducting a study to assess the degree of integration among the current EPA programs, to make recommendations for a more integrated research program on Nr, and to identify opportunities for a more integrated approach to nitrogen management.

To carry out the Integrated Nitrogen Research Project, the SAB is forming an Ad Hoc Committee, known as the Integrated Nitrogen Research Committee. The Staff Office is soliciting nominations for members of the new Committee. The Committee will provide advice through the chartered SAB. The Committee will comply with the provisions of the Federal Advisory Committee Act (FACA) and all appropriate SAB Staff Office procedural policies.

The Committee will address the following questions:

1. What are the nitrogen problems?

2. What are the linkages among/between the different nitrogen problems?

3. What EPA environmental programs and policies could provide the greatest control of nitrogen? What are the benefits of integrated nitrogen management?

4. What are the research needs to better understand the nitrogen problems and to strengthen the integrated risk management of nitrogen?

To achieve these overall goals, the SAB plans to conduct a number of workshops and issue reports for this study.

Nomination of Candidates for SAB Committee

The SAB Staff Office is soliciting public nominations of nationally and internationally recognized scientists with expertise in one or more of the following areas:

Biogeochemistry and Effects

(1) The sources of Nr released into the environment from human activities and natural sources, including: Intentional cultivation of crops which promote conversion of nitrogen gas to organic nitrogen; combustion of fossil fuels; and the Haber-Bosch process.

(2) The behavior and effects of Nr in the atmosphere, including tropospheric ozone, particulate matter and visibility, and greenhouse gases and stratospheric ozone.

(3) The behavior and effects of Nr on humans and ecosystems in the terrestrial environment, including grassland/forest and agroecosystem.

(4) The behavior and effects of nitrogen in the aquatic environment, including wetlands, groundwater, surface waters, estuarine, coastal and marine environments.

Risk Reduction

(5) Risk Reduction Approaches including implementation of regulatory and voluntary approaches to risk reduction.

Control

(6) Specific control technologies or practices, including combustion controls for nitrogen oxides, ozone precursors, and particulate matter/visibility and practices for controlling ammonia in agriculture.

Process and Deadline for Submitting Nominations: Any interested person or organization may nominate qualified experts from academia, industry, non-governmental organizations or State, local and tribal governments in the areas of expertise described above to serve on the Committee. Nominations should be submitted in electronic format through the Form for Nominating Individuals to Panels of the EPA Science Advisory Board provided on the SAB Web site at: http://www.epa.gov/sab. The form can be accessed through a link on the blue navigational bar at that Web site. To be considered, nominations must include all the information required on that form.

Anyone who is unable to submit nominations electronically using this form, or who has questions concerning the nomination process may contact Ms. Kathleen White, DFO, as indicated above in this notice. Nominations should be submitted in time to arrive no later than April 11, 2005.

To be considered, all nominations must include: (a) a current biography, curriculum vitae (C.V.) or resume, which provides the nominee's background, experience and qualifications for the Committee; and (b) a brief biographical sketch (“biosketch”). The biosketch should be no longer than one page and must contain the following information for the nominee:

(i) Current professional affiliations and positions held;

(ii) Area(s) of expertise, and research activities and interests;

(iii) Leadership positions in national associations or professional publications or other significant distinctions;

(iv) Educational background, especially advanced degrees, including when and from which institutions these were granted;

(v) Service on other advisory committees, professional societies, especially those associated with issues under discussion in this review; and

(vi) Sources of recent (i.e., within the preceding two years) grant and/or other contract support, from government, industry, academia, etc., including the topic area of the funded activity. Please note that even if there is no responsive information (e.g., no recent grant or contract funding), this must be indicated on the biosketch (by “N/A” or “None”). Incomplete biosketches will result in nomination packages not being accepted.

The EPA SAB Staff Office will acknowledge receipt of the nomination. After considering the nominees (termed the “Widecast”), the SAB Staff Office will identify a subset (known as the “Short List”) for more detailed consideration. Criteria used by the Staff Office in developing this Short List are given at the end of the following paragraph. The Short List will be posted on the SAB Web site at: http://www.epa.gov/sab, and will include the nominees' names and their biosketches. Public comments will be accepted for 21 calendar days on the Short List. During this comment period, the public may provide information, analysis or other documentation on nominees that the Staff Office should consider in evaluating candidates for the Committee.

For the EPA SAB Staff Office, a balanced Committee is characterized by inclusion of candidates who possess the necessary domains of knowledge, the relevant scientific perspectives (which, among other factors, can be influenced by work history and affiliation), and the collective breadth of experience to adequately address the charge. Public responses to the Short List candidates will be considered in the selection of the Committee, along with information provided by candidates and information independently-gathered by the SAB Staff Office on the background of each candidate (e.g., financial disclosure information and computer searches to evaluate a nominee's prior involvement with the topic under review). Specific criteria to be used in evaluating an individual Committee member include: (a) Scientific and/or technical expertise, knowledge, and experience (primary factors); (b) availability and willingness to serve; (c) absence of financial conflicts of interest; (d) scientific credibility and impartiality; and (e) skills working in advisory committees, subcommittees and review panels.

Short List candidates must submit the “Confidential Financial Disclosure Form for Special Government Employees Serving on Federal Advisory Committees at the U.S. Environmental Protection Agency” (EPA Form 3110-48). This confidential form allows Government officials to determine whether there is a statutory conflict between that person's public responsibilities (which includes membership on an EPA Federal advisory committee) and private interests and activities, or the appearance of a lack of impartiality, as defined by Federal regulation. The form may be viewed and downloaded from the following URL address: http://www.epa.gov/sab/pdf/epaform3110-48.pdf.

The approved policy under which the EPA SAB Office selects ad hoc committees and review panels is described in the following document: Overview of the Panel Formation Process at the Environmental Protection Agency Science Advisory Board (EPA-SAB-EC-02-010), which is on the SAB Web site at: (http://www.epa.gov/sab)http://www.epa.gov/sab/ecm02003.pdfhttp://www.epa.gov/sab/pdf/ec02010.pdf.

Dated: March 4, 2005.
Vanessa T. Vu,
Director, EPA Science Advisory Board Staff Office.

[FR Doc. 05-4960 Filed 3-11-05; 8:45 am]

BILLING CODE 6560-50-P